Title 3—

The President

Proclamation 8185 of October 4, 2007

German-American Day, 2007

By the President of the United States of America

A Proclamation

Generations of German Americans have helped shape our national culture and advance our legacy of freedom. On German-American Day, we recognize the many contributions that Americans of German descent have made to our vibrant country.

German immigrants, in search of a brighter future, were among the first pioneers to settle in Jamestown. Since then, German Americans have influenced our society in all walks of life and helped expand our democratic heritage and our deeply held belief in individual liberty. The leadership and strong spirit of German Americans have helped shape our country and advance the great blessings of our Nation.

German-American Day is also an opportunity to honor the strong ties between the United States and Germany and to celebrate our friendship. On this day, we underscore our commitment to working together to promote peace and making the world a more hopeful place.

NOW, THEREFORE, I, GEORGE W. BUSH, President of the United States of America, by virtue of the authority vested in me by the Constitution and laws of the United States, do hereby proclaim October 6, 2007, as German-American Day. I encourage all Americans to celebrate the many contributions German Americans have made to our Nation's liberty and prosperity.

IN WITNESS WHEREOF, I have hereunto set my hand this fourth day of October, in the year of our Lord two thousand seven, and of the Independence of the United States of America the two hundred and thirty-second.

[FR Doc. 07-5006

Filed 10-5-07; 8:55 am]

Billing code 3195-01-P